DEPARTMENT OF TRANSPORTATION

Federal Aviation Administration

Notice of Intent To Rule on Application 02-04-C-00-BUF To Impose and Use the Revenue From a Passenger Facility Charge (PFC) at Buffalo Niagara International Airport, and Use Only at Niagara Falls International Airport, New York

AGENCY: Federal Aviation Administration (FAA), DOT.

ACTION: Notice of intent to rule on application.

SUMMARY: The FAA proposes to rule and invites public comment on the application to impose and use the revenue from a PFC at Buffalo Niagara International Airport and use only at Niagara Falls International Airport under the provisions of the Aviation Safety and Capacity Expansion Act of 1990 (Title IX of the Omnibus Budget Reconciliation Act of 1990) (Pub. L. 101-508) and part 158 of the Federal Aviation Regulations (14 CFR part 158).

DATES: Comments must be received on or before December 9, 2002.

ADDRESSES: Comments on this application may be mailed or delivered in triplicate to the FAA at the following address: FAA, New York Airports District Office, 600 Old Country Road, Suite 446, Garden City, NY 11530.

In addition, one copy of any comments submitted to the FAA must be mailed or delivered to Vito J. Sportelli, of the Niagara Frontier Transportation Authority at the following address: 181 Ellicott Street, Buffalo, New York 14203.

Air carriers and foreign air carriers may submit copies of written comments previously provided to the Niagara Frontier Transportation Authority under § 158.23 of part 158.

FOR FURTHER INFORMATION CONTACT: Eleanor Schifflin, PFC Program Manager, Regional Office, 1 Aviation Plaza, Jamaica, New York 11434-4848 at (718) 553-3354. The application may be reviewed in person at this same location.

SUPPLEMENTARY INFORMATION: The FAA proposes to rule and invites public comment on the application to impose and use the revenue from a PFC at Buffalo Niagara International Airport and use at Niagara Falls International Airport under the provisions of the Aviation Safety and Capacity Expansion Act of 1990 (Title IX of the Omnibus Budget Reconciliation Act of 1990) (Pub. L. 101-508) and part 158 of the Federal Aviation Regulations (14 CFR part 158).

On October 9, 2002, the FAA determined that the application to impose and use the revenue from a PFC submitted by Niagara Frontier Transportation Authority was substantially complete within the requirements of § 158.25 of part 158. The FAA will approve or disapprove the application, in whole or in part, no later than January 18, 2003.

The following is a brief overview of the application.

PFC Application No.: 02-04-C-00-BUF.

Level of the proposed PFC: $3.00.

Proposed charge effective date: May 1, 2006.

Proposed charge expiration date: January 1, 2010.

Total estimated PFC revenue: $24,561,653.

Brief description of proposed project(s) at Buffalo Niagara International Airport:

—Relocation of Security Checkpoints.

—Perform Runway 14-32 Safety Area Improvements.

—Purchase Safety Equipment—Air Rescue Fire Fighting Vehicles.

—Purchase Snow Removal Equipment (for both Buffalo Niagara International and Niagara Falls International).

—Purchase Passenger Movement Shuttle Buses.

—Procurement of Security Vehicles.

—Upgrade Security Badging System.

—PFC Planning and Program Administration.

—Series 1999 Debt Service—East Concourse Terminal Extension, and Apron Expansion, and East Access Improvement.

Class or classes of air carriers which the public agency has requested not be required to collect PFCs: Air Taxi/Commercial Operators (ATCO) filing FAA Form 1800-31.

Any person may inspect the application in person at the FAA office listed above under FOR FURTHER INFORMATION CONTACT and at the FAA regional airports office located at: 1 Aviation Plaza, Airports Division, AEA-610, Jamaica, New York, 114.

In addition, any person may, upon request, inspect the application, notice and other documents germane to the application in person at the Niagara Frontier Transportation Authority.

Issued in Jamaica, New York on October, 2002.
Eleanor Schifflin,
PFC Program Manager, Eastern Region.

[FR Doc. 02-28374 Filed 11-06-02; 8:45 am]

BILLING CODE 4910-13-M